FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of ocean transportation intermediaries, effective on the corresponding date shown below:

License Number: 15893N.

Name: Altamar Shipping Services, Inc.

Address: 1701 N 20th Street, Tampa, FL 33605.

Date Revoked: February 7, 2003.

Reason: Failed to maintain a valid bond.

License Number: 15696N.

Name: ENC, Inc.

Address: 15606 Broadway Center, Gardena, CA 90248.

Date Revoked: February 7, 2003.

Reason: Failed to maintain a valid bond.

License Number: 14464N.

Name: Glo Best World Wide Shipping Inc.

Address: 110-39 Dunkirk Street, Jamaica, NY 11412.

Date Revoked: February 5, 2003.

Reason: Failed to maintain a valid bond.

License Number: 4637N.

Name: Lion Cargo Brokers, Inc. dba Polaris Ocean Line.

Address: 8055 NW., 77th Court, Suite 3, Medley, FL 33166.

Date Revoked: February 9, 2003.

Reason: Failed to maintain a valid bond.

License Number: 15255N.

Name: Triways Shipping Lines, Inc.

Address: 11938 South La Cienega Blvd., Hawthorne, CA 90250.

Date Revoked: February 6, 2003.

Reason: Failed to maintain a valid bond.

License Number: 17909N.

Name: Willmar International, Inc.

Address: 975 Navajo Drive, Bluffton, OH 45817.

Date Revoked: February 1, 2003.

Reason: Failed to maintain a valid bond.

License Number: 2157F.

Name: FNC International Inc.

Address: 534 Eccles Avenue, So. San Francisco, CA 94080.

Date Revoked: December 23, 2002.

Reason: Surrendered license voluntarily.

License Number: 2023F.

Name: Pike Shipping Co., Inc.

Address: 2 Canal Street, 22nd Fl., New Orleans, LA 70130.

Date Revoked: January 10, 2003.

Reason: Failed to maintain a valid bond.

License Number: 725F.

Name: Fernant Export Shipping Co., Inc.

Address: 401 Broadway, New York, NY 10013.

Date Revoked: January 31, 2003.

Reason: Surrendered license voluntarily.

License Number: 2942F.

Name: Baltimore Shipping Co., Inc.

Address: 1601 S. Highland Avenue, Baltimore, MD 21224.

Date Revoked: January 23, 2003.

Reason: Failed to maintain a valid bond.

License Number: 2659F.

Name: Miriam Martinez.

Address: P.O. Box 11478, San Juan, PR 00922.

Date Revoked: November 22, 2002.

Reason: Failed to maintain a valid bond.

License Number: 17276NF.

Name: Mega-Trans, Inc.

Address: 1080 Randolph Avenue, Suite #5, Rahway, NJ 07065.

Date Revoked: November 27, 2002, and January 16, 2003.

Reason: Failed to maintain valid bonds.

License Number: 3813F.

Name: Page International, Inc.

Address: 109 Minus Avenue, #C-7, Garden City, GA 31408.

Date Revoked: January 31, 2003.

Reason: Failed to maintain a valid bond.

License Number: 995F.

Name: Marine Agency of Tampa, Inc.

Address: 2206 Saxon Street, Tampa, FL 33605.

Date Revoked: January 1, 2003.

Reason: Failed to maintain a valid bond.

License Number: 2274N.

Name: David K. Lindemuth Co., Inc. dba DKL Container Line.

Address: 154 South Spruce Avenue, So. San Francisco, CA 94080.

Date Revoked: February 11, 2003.

Reason: Failed to maintain a valid bond.

License Number: 279F.

Name: Charles Happel, Inc.

Address: 120 Broadway, Suite 3330, New York, NY 10271.

Date Revoked: February 10, 2003.

Reason: Failed to maintain a valid bond.

License Number: 338F.

Name: Fred P. Gaskell Company, Inc.

Address: P.O. Box 3157, Norfolk, VA 23514.

Date Revoked: February 5, 2003.

Reason: Failed to maintain a valid bond.

License Number: 4642F.

Name: Varko International, Corp.

Address: 7700 NW., 73rd Court, Medley, FL 33166.

Date Revoked: February 7, 2003.

Reason: Failed to maintain a valid bond.

Sandra L. Kusumoto,
Director, Bureau of Consumer Complaints and Licensing.

[FR Doc. 03-5347 Filed 3-6-03; 8:45 am]

BILLING CODE 6730-01-P